DEPARTMENT OF ENERGY

Federal Energy Regulatory Commission

[Docket No. CP11-128-000; Docket No. CP11-133-000]

National Fuel Gas Supply Corporation; Tennessee Gas Pipeline Company; Notice of Intent To Prepare an Environmental Assessment for the Proposed Northern Access Project and Station 230c Project, Request for Comments on Environmental Issues, and Notice of Public Environmental Site Review

The staff of the Federal Energy Regulatory Commission (FERC or Commission) will prepare an environmental assessment (EA) that will discuss the environmental impacts of two related projects proposed by National Fuel Gas Supply Corporation (National Fuel) and Tennessee Gas Pipeline Company (TGP). National Fuel's Northern Access Project would involve construction and operation of facilities in Erie County, New York and Potter County, Pennsylvania. TGP's Station 230C Project would involve construction and operation of facilities in Niagara County, New York. This EA will be used by the Commission in its decision-making process to determine whether these projects are in the public convenience and necessity.

This notice announces the opening of the scoping process the Commission will use to gather input from the public and interested agencies on the projects. Your input will help the Commission staff determine what issues need to be evaluated in the EA. Please note that the scoping period will close on April 28, 2011.

Commission staff will conduct two onsite environmental reviews of National Fuel's proposed East Aurora Compressor Station site and its Ellisburg Compressor Station expansion. All interested parties planning to attend must provide their own transportation. Those attending should meet at the following locations:

East Aurora Compressor Station Site Review April 11, 2011, at 2 pm, Meet at Tops Plaza, 65 Grey Street, East Aurora, New York 14052.

Ellisburg Compressor Station Site Review April 14, 2011, at 8 am, Meet at the Westgate Inn Hotel (Lobby), 307 Route 6 West, Coudersport, Pennsylvania 16915.

This notice is being sent to the Commission's environmental mailing list for these projects. State and local government representatives are asked to notify their constituents of these proposed projects and encourage them to comment on their areas of concern.

A fact sheet prepared by the FERC entitled “An Interstate Natural Gas Facility On My Land? What Do I Need To Know?” was attached to the project notice National Fuel and TGP provided to landowners. This fact sheet addresses a number of typically-asked questions, including the use of eminent domain and how to participate in the Commission's proceedings. It is also available for viewing on the FERC website (http://www.ferc.gov).

Summary of the Proposed Projects

National Fuel's proposed Northern Access Project would provide about 320,000 dekatherms per day of firm Marcellus Shale natural gas transportation service to northeastern and Canadian markets. The Northern Access Project would consist of the following:

• A new East Aurora Compressor Station, totaling 4,470-horsepower (hp), and auxiliary facilities in Erie County, New York;

• Piping modifications at the existing Concord Compressor Station in Erie County, New York to permit bidirectional flow;

• Two additional compressor units, totaling 9,470-hp, at the existing Ellisburg Compressor Station in Potter County, Pennsylvania; and

• Upgrades to the existing Rose Lake Interconnection metering facilities at the Ellisburg Compressor Station.

TGP's proposed project would include upgrades and modifications at its existing Compressor Station 230C in Niagara County, New York, located on the Niagara Spur Loop Line (NSLL). TGP states that the purpose of the Station 230C Project is to make the NSLL facilities, jointly owned with National Fuel, a bi-directional pipeline. TGP's and National Fuel's projects would make the proposed receipt and delivery service available to the northeastern and Canadian markets. TGP's project would consist of the following facilities at the Compressor Station 230C:

• Abandonment by replacement of the A2 and A3 compressor engines;

• Restaging of centrifugal compressors for units A2, A3, and A4 to match bi-directional flow conditions;

• Piping modifications to allow reverse flow;

• New discharge flow check meters and check valves along the existing 20- and 30-inch pipelines;

• New station discharge cooling equipment; and

• Modification to station automation systems and installation of yard valves to allow bi-directional flow.

The general locations of the projects' facilities are shown in appendix 1.¹

¹ The appendices referenced in this notice are not being printed in the Federal Register. Copies of appendices were sent to all those receiving this notice in the mail and are available at http://www.ferc.gov using the link called “eLibrary” or from the Commission's Public Reference Room, 888 First Street, NE., Washington, DC 20426, or call (202) 502-8371. For instructions on connecting to eLibrary, refer to the last two pages of this notice.

Land Requirements for Construction

Construction of the Northern Access Project facilities would disturb a total of about 12.6 acres of land for the aboveground facilities. Following construction, a total of about 11.4 acres would be maintained for permanent operation of the project's facilities.

Construction of the Station 230C Project facilities would disturb about 7 acres of land for the compressor station upgrades and modifications; this includes 4.6 acres of temporary workspace outside the existing station fence line. About 2.4 acres of land within the station fence line would be required for operation of the project facilities.

The EA Process

The National Environmental Policy Act (NEPA) requires the Commission to take into account the environmental impacts that could result from an action whenever it considers the issuance of a Certificate of Public Convenience and Necessity. NEPA also requires us ² to discover and address concerns the public may have about proposals. This process is referred to as “scoping”. The main goal of the scoping process is to focus the analysis in the EA on the important environmental issues. By this notice, the Commission requests public comments on the scope of the issues to address in the EA. All comments received will be considered during the preparation of the EA.

² “We,” “us,” and “our” refer to the environmental staff of the Commission's Office of Energy Projects.

In the EA we will discuss impacts that could occur as a result of the construction and operation of the proposed projects under these general headings:

• Geology and Soils;

• Land Use;

• Water Resources, Fisheries, and Wetlands;

• Endangered and Threatened Species;

• Vegetation and Wildlife;

• Cultural Resources;

• Air Quality and Noise; and

• Public safety.

We will also evaluate reasonable alternatives to the proposed projects or portions of the projects, and make recommendations on how to lessen or avoid impacts on the various resource areas.

Our independent analysis of the issues will be presented in the EA. The EA will be placed in the public record and, depending on the comments received during the scoping process, may be published and distributed to the public. A comment period will be allotted if the EA is published for review. We will consider all comments on the EA before we make our recommendations to the Commission. To ensure your comments are considered, please carefully follow the instructions in the Public Participation section beginning on page 5.

With this notice, we are asking agencies with jurisdiction and/or special expertise with respect to environmental issues to formally cooperate with us in the preparation of the EA. These agencies may choose to participate once they have evaluated the proposal relative to their responsibilities. Agencies that would like to request cooperating agency status should follow the instructions for filing comments provided under the Public Participation section of this notice.

Consultations Under Section 106 of the National Historic Preservation Act

In accordance with the Advisory Council on Historic Preservation's implementing regulations for section 106 of the National Historic Preservation Act, we are using this notice to initiate consultation with applicable State Historic Preservation Offices (SHPO), and to solicit their views and those of other government agencies, interested Indian tribes, and the public on the projects' potential effects on historic properties.³ We will define the project-specific Area of Potential Effects (APE) in consultation with the SHPOs as the projects are further developed. On natural gas facility projects, the APE at a minimum encompasses all areas subject to ground disturbance (examples include construction right-of-way, contractor/pipe storage yards, compressor stations, and access roads). Our EA for these projects will document our findings on the impacts on historic properties and summarize the status of consultations under section 106.

³ The Advisory Council on Historic Preservation's regulations are at Title 36, Code of Federal Regulations, Part 800. Historic properties are defined in those regulations as any prehistoric or historic district, site, building, structure, or object included in or eligible for inclusion in the National Register for Historic Places.

Public Participation

You can make a difference by providing us with your specific comments or concerns about the projects. Your comments should focus on the potential environmental effects, reasonable alternatives, and measures to avoid or lessen environmental impacts. The more specific your comments, the more useful they will be. To ensure that your comments are timely and properly recorded, please send your comments so that they will be received in Washington, DC on or before April 28, 2011.

For your convenience, there are three methods which you can use to submit your comments to the Commission. In all instances please reference the project docket numbers (CP11-128-000 and CP11-133-000) with your submission. The Commission encourages electronic filing of comments and has expert eFiling staff available to assist you at (202) 502-8258 or efiling@ferc.gov.

(1) You may file your comments electronically by using the eComment feature, which is located on the Commission's Web site at http://www.ferc.gov under the link to Documents and Filings. An eComment is an easy method for interested persons to submit brief, text-only comments on a project;

(2) You may file your comments electronically by using the eFiling feature, which is located on the Commission's Web site at http://www.ferc.gov under the link to Documents and Filings. With eFiling, you can provide comments in a variety of formats by attaching them as a file with your submission. New eFiling users must first create an account by clicking on “eRegister.” You will be asked to select the type of filing you are making. A comment on a particular project is considered a “Comment on a Filing”; or

(3) You may file a paper copy of your comments at the following address:

Kimberly D. Bose, Secretary, Federal Energy Regulatory Commission, 888 First Street, NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the projects. We will update the environmental mailing list as the analysis proceeds to ensure that we send the information related to this environmental review to all individuals, organizations, and government entities interested in and/or potentially affected by the proposed projects.

If the EA is published for distribution, copies will be sent to the environmental mailing list for public review and comment. If you would prefer to receive a paper copy of the document instead of the CD version or would like to remove your name from the mailing list, please return the attached Information Request (appendix 2).

Becoming an Intervenor

In addition to involvement in the EA scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are included in the User's Guide under the “e-filing” link on the Commission's Web site.

Additional Information

Additional information about the projects is available from the Commission's Office of External Affairs, at (866) 208-FERC, or on the FERC Web site at http://www.ferc.gov using the “eLibrary” link. Click on the eLibrary link, click on “General Search” and enter the docket number, excluding the last three digits in the Docket Number field (i.e., CP11-128 or CP11-133). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to http://www.ferc.gov/esubscribenow.htm.

Finally, public meetings or site visits will be posted on the Commission's calendar located at http://www.ferc.gov/EventCalendar/EventsList.aspx along with other related information.

Dated: March 29, 2011.
Kimberly D. Bose,
Secretary.

[FR Doc. 2011-8030 Filed 4-4-11; 8:45 am]

BILLING CODE 6717-01-P